FEDERAL COMMUNICATIONS COMMISSION

Notice of Public Information Collection(s) Being Submitted to OMB for Review and Approval

August 22, 2001.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before October 4, 2001. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0316.

Title: Section 76.1700, Records to be Maintained Locally by Cable System Operators for Public Inspection.

Form Number: N/A.

Type of Review: Extension of a currently approved collection.

Respondents: Business or other for-profit entities.

Number of Respondents: 3,885.

Estimated Time per Response: 26 hours.

Frequency of Response: Recordkeeping.

Total Annual Burden: 101,010 hours.

Total Annual Costs: None.

Needs and Uses: 47 CFR Section 76.1700 requires cable television systems having 1,000 or more subscribers to maintain a public inspection file containing certain records. The records are used by FCC staff, local public officials, and the public to assess a cable television station's performance and to ensure that the system is in compliance with all of the Commission's applicable rules and regulations, i.e., when the FCC staff is conducting field inspections/investigations.

OMB Control Number: 3060-0332.

Title: Section 76.614, Cable Television System Regular Monitoring, and 76.1706, Signal Leakage Logs and Repair Records.

Form Number: N/A.

Type of Review: Extension of a currently approved collection.

Respondents: Businesses or other for-profit entities.

Number of Respondents: 10,080.

Estimated Time per Response: 1 to 30 minutes.

Frequency of Response: Recordkeeping; On occasion reporting requirements.

Total Annual Burden: 7,056 hours.

Total Annual Costs: None.

Needs and Uses: 47 CFR 76.614 requires cable television operators transmitting carriers in the frequency bands 108-137 and 225-400 MHz to provide for a program of regular monitoring for signal leakage by substantially covering the plant every three months. Section 76.1706 requires cable operators to maintain a log showing the date and location of each signal leakage source pursuant to section 76.614, the date on which the leakage was repaired, and the probable cause of the leakage. The log must be kept on file for a period of two years and must be made available to authorized representatives of the FCC upon request. Originally, the requirement to maintain logs was included in section 76.614, but pursuant to the Commission's reorganization and renumbering of section 76 as part of the 1998 Biennial Review—Multichannel Video and Cable Television Service, this recordkeeping requirement was placed in section 76.1706.

Federal Communications Commission.
Magalie Roman Salas,
Secretary.

[FR Doc. 01-22081 Filed 8-31-01; 8:45 am]

BILLING CODE 6712-01-P